DEPARTMENT OF COMMERCE

National Telecommunications and Information Administration

[Docket No. 111215762-1761-01]

RIN 0605-XA42

Privacy Act of 1974: Systems of Records

AGENCY: National Telecommunications and Information Administration, U.S. Department of Commerce.

ACTION: Notice.

SUMMARY: In accordance with the Privacy Act (5 U.S.C. 552a(e)(4) and (11)), the Department of Commerce is issuing this notice of its intent to delete the system of records entitled “COMMERCE/NTIA-1, Applications Related to Coupons for Digital-to-Analog Converter Boxes.” The Digital-to-Analog Converter Box Program has been terminated and this system of records is to be deleted to comply with the applicable Disposition Authority.

DATES: To be considered, written comments must be submitted on or before January 23, 2012. Unless comments are received, the deletion of the system of records will become effective on the date of publication of a subsequent notice in the Federal Register.

ADDRESSES: Written comments may be mailed to Danielle N. Rodier, Attorney-Advisor, Office of the Chief Counsel, National Telecommunications and Information Administration, Room 4713, 1401 Constitution Avenue NW., Washington, DC 20230. Paper submissions should include a 31/2 inch computer diskette in HTML, ASCII, Word, or WordPerfect format (please specify version). Diskettes should be labeled with the name and organization affiliation of the filer, and the name of the word processing program used to create the document. Comments may be submitted electronically to the following electronic mail address: sor-comments@ntia.doc.gov. Comments submitted via electronic mail also should be submitted in paper or diskette formats. Comments will be posted on NTIA's Web site at www.ntia.doc.gov/ntiahome/occ/sorcomments.

SUPPLEMENTARY INFORMATION: The National Telecommunications and Information Administration (NTIA), Department of Commerce, created a Privacy Act System of Records for coupon applications under the Digital-to-Analog Converter Box Program. The System of Records, COMMERCE/NTIA-1, “Applications Related to Coupons for Digital-to-Analog Converter Boxes,” is comprised of applications' household information: (1) Name; (2) address; (3) the number of coupons requested; (4) a certification as to whether the household receives cable, satellite, or other pay television; and (5) name of nursing home facility, if applicable. See Privacy Act of 1974; System of Records Notice, 73 FR 171 (Jan. 2, 2008); Privacy Act of 1974; System of Records, Notice, 74 FR 2060 (Jan. 14, 2009) (amending the original System of Records to include nursing home facility names).

NTIA is now preparing to delete this System of Records. The National Archives and Records Administration (NARA) authorized NTIA to dispose of records (Disposition Authority) associated with the NTIA Digital Converter Box Coupon Program, including this System of Records. See Request for Records Disposition Authority, N1-417-08-1 (July 13, 2009), available at (http://www.archives.gov/records-mgmt/rcs/schedules/departments/department-of-commerce/rg-0417/n1-417-08-001_sf115.pdf). The Disposition Schedule provides that applicant household records are to be deleted two years after termination of the program. NTIA determined that the date for termination of the program was December 31, 2009 because the essential functions of the program had ceased by that date. Accordingly, this Privacy Act System of Records is being deleted to comply with the Disposition Authority.

Jonathan R. Cantor,
Chief Privacy Officer, Department of Commerce.

[FR Doc. 2011-32942 Filed 12-22-11; 8:45 am]

BILLING CODE 3510-60-P